GENERAL SERVICES ADMINISTRATION

41 CFR Parts 101-3 and 102-84

[FPMR Amendment D-98]

RIN 3090-AG55

Annual Real Property Inventories

AGENCY: Office of Governmentwide Policy, GSA.

ACTION: Final rule.

SUMMARY: The General Services Administration (GSA) is adopting as final without change an interim rule which revised the Federal Property Management Regulations (FPMR) by moving coverage on the annual real property inventories into the Federal Management Regulation (FMR). A cross-reference was added to the FPMR to direct readers to the coverage in the FMR. The FMR coverage was written in plain language to provide agencies with updated regulatory material that is easy to read and understand.

DATES: This final rule becomes effective March 14, 2002.

FOR FURTHER INFORMATION CONTACT: Stanley C. Langfeld, Director, Real Property Policy Division, 202-501-1737.

SUPPLEMENTARY INFORMATION:

A. Background

In furtherance of its leadership role in real property asset management, the Office of Governmentwide Policy, Office of Real Property, conducted a comprehensive review of the policies contained in Federal Property Management Regulations (FPMR) Part 101-3 (41 CFR part 101-3), entitled “Annual Real Property Inventories.” This review was based on a collaborative effort with Federal real property holding agencies that utilize the Worldwide Inventory of Federal Real Property.

Representatives from the Department of the Interior, the Department of Energy, and the Army Corps of Engineers participated with GSA in conducting the initial steps of the comprehensive review of the policies in FPMR part 101-3 (41 CFR part 101-3). The review focused on improvements to make the real property inventory program more useful and to enable Federal agencies to more effectively manage their real property inventories. In addition, we have rewritten these regulations in plain language format. These regulations are being transferred from the FPMR to the FMR to enable the Government to better focus on implementing statutory requirements, Executive Orders, and governmentwide policies rather than on detailed operating procedures.

An interim rule was published in the Federal Register on November 2, 2001 (66 FR 55593). No comments were received in response to the interim rule.

B. Executive Order 12866

GSA has determined that this final rule is not a significant regulatory action for the purposes of Executive Order 12866 of September 30, 1993.

C. Regulatory Flexibility Act

This final rule will not have a significant economic impact on a substantial number of small entities within the meaning of the Regulatory Flexibility Act, 5 U.S.C. 601-612 because it applies solely to matters concerning agency management and personnel.

D. Paperwork Reduction Act

The Paperwork Reduction Act does not apply because this final rule does not impose recordkeeping or information collection requirements, or the collection of information from offerors, contractors, or members of the public which require the approval of the Office of Management and Budget (OMB) under 44 U.S.C. 3501, et seq.

E. Small Business Regulatory Enforcement Fairness Act

This final rule is exempt from Congressional review prescribed under 5 U.S.C. 801 since it relates solely to agency management and personnel.

List of Subjects in 41 CFR Parts 101-3 and 102-84

Federal buildings and facilities, Government property management.

Interim Rule Adopted as Final Without Change

For the reasons set forth in the preamble and under the authority of 40 U.S.C. 486(c), the interim rule revising 41 CFR part 101-3 and adding 41 CFR part 102-84 which was published in the Federal Register at 66 FR 55593 on November 2, 2001, is adopted as a final rule without change.

Dated: February 28, 2002.
Stephen A. Perry,
Administrator of General Services.

[FR Doc. 02-5775 Filed 3-13-02; 8:45 am]

BILLING CODE 6820-23-U